DEPARTMENT OF ENERGY

Federal Energy Regulatory Commission

Notice of Settlement Agreement and Soliciting Comments

August 13, 2003.

Take notice that the following settlement agreement has been filed with the Commission and is available for public inspection.

a. Type of Application: Settlement Agreement.

b. Project No.: 2205-006.

c. Date Filed: July 3, 2003.

d. Applicant: Central Vermont Public Service Corporation.

e. Name of Project: Lamoille River Hydroelectric Project.

f. Location: Located on the Lamoille River, in Franklin, Lamoille, and Chittenden Counties, Vermont.

g. Filed Pursuant to: Rule 602 of the Commission's Rules of Practice and Procedure, 18 CFR 385.602.

h. Applicant Contact: Mr. Michael J. Scarzello, Engineer, Central Vermont Public Service Corp., 77 Grove St., Rutland, VT 05701-3403 (802) 247-5207.

i. FERC Contact: Jack Duckworth at (202) 502-692, or by e-mail at jack.duckworth@ferc.gov.

j. Deadline for Filing Comments: The deadline for filing comments on the Settlement Agreement is 20 days from the date of this notice. The deadline for filing reply comments is 30 days from the date of this notice. All documents (original and eight copies) should be filed with: Magalie R. Salas, Secretary, Federal Energy Regulatory Commission, 888 First Street, NE., Washington, DC 20426.

Under the Commission's Rules of Practice, intervenors in the relicensing proceeding filing documents with the Commission must serve a copy of that document on each person on the official service list for the project. Further, if an intervenor files comments or documents with the Commission relating to the merits of an issue that may affect the responsibilities of a particular resource agency, they must also serve a copy of the document on that resource agency.

Comments may be filed electronically via the Internet in lieu of paper. See 18 CFR 385.2001(a)(1)(iii) and the instructions of the Commission's Web site (http://www.ferc.gov) under the “e-filing” link.

k. Central Vermont Public Service Corporation filed the Comprehensive Settlement Agreement on behalf of itself and 5 other stakeholders. The purpose of the Settlement Agreement is to resolve, among the signatories, all water resource related issues of Central Vermont Public Service Corporation's pending Application for New License for the Lamoille River Hydroelectric Project. The relicensing issues resolved through the settlement include requirements for reservoir drawdowns, bypass flows, downstream flows, and fish passage. Central Vermont Public Service Corporation requests that the Commission approve the Settlement Agreement and incorporate the proposed project operation restrictions and requirements in Appendix A of the Settlement Agreement into a new license for the project.

l. A copy of the Settlement Agreement is available for review at the Commission in the Public Reference Room or may be viewed on the Commission's Web site at http://www.ferc.gov, using the eLibrary (FERRIS) link. Enter the docket number, excluding the last three digits in the docket number field to access the document. For assistance, contact FERC Online Support at FERCOnlineSupport@ferc.gov or toll-free at 1-866-208-3676, or for TTY, (202) 502-8659. A copy is also available for inspection and reproduction at the address in item h above. Register online at http://www.ferc.gov/esubscribenow.htm to be notified via e-mail of new filings and issuances related to this or other pending projects. For assistance, contact FERC Online Support.

Linda Mitry,
Acting Secretary.

[FR Doc. 03-21502 Filed 8-21-03; 8:45 am]

BILLING CODE 6717-01-P